NATIONAL SCIENCE FOUNDATION

Committee Management; Renewals

The NSF management official having responsibility for the U.S. National Assessment Synthesis Team (#5219) has determined that renewing for an additional eight months is necessary and in the public interest in connection with the performance of duties imposed upon the Director, National Science Foundation (NSF), by 42 U.S.C. 1861 et seq. This determination follows consultation with the Committee Management Secretariat, General Services Administration.

Authority for this Committee will expire on September 30, 2000, unless renewed. For more information, please contact Karen York, NSF, at (703) 306-1182.

Dated: January 24, 2000.
Karen J. York,
Committee Management Officer.

[FR Doc. 00-1997 Filed 1-28-00; 8:45 am]

BILLING CODE 7555-01-M